DEPARTMENT OF ENERGY

Federal Energy Regulatory Commission

[Docket No. CP11-11-000]

El Paso Natural Gas Company; Notice of Request Under Blanket Authorization

October 26, 2010.

Take notice that on October 18, 2010, El Paso Natural Gas Company (El Paso), Post Office Box 1087, Colorado Springs, CO, 80944, filed a prior notice request pursuant to sections 157.205(b) and 157.208(f) of the Federal Energy Regulatory Commission's regulations under the Natural Gas Act (NGA) and El Paso's blanket certificates issued in Docket Nos. CP82-435-000 and CP88-433-000. El Paso proposes to decrease the certificated Maximum Allowable Operating Pressure (MAOP) of two 1.16 mile, 30 inch outer-diameter segments of pipe located in Mohave County, Arizona. Specifically, El Paso requests authorization to decrease the certificated MAOP of each 1.16 mile segment of Line from California Line to Topock (Line No. 1104) and 1st Loop Line from California Line to Topock (Line No. 1112) from 845 psig to 809 psig. El Paso states the decrease in MAOP is due to a class location change from Class I to Class II under the Department of Transportation regulations. El Paso also states no service will be abandoned and all current contractual obligations will be met, all as more fully set forth in the application, which is on file with the Commission and open to public inspection. The filing may also be viewed on the Web at http://www.ferc.gov using the “eLibrary” link. Enter the docket number excluding the last three digits in the docket number field to access the document. For assistance, contact FERC at or call toll-free, (866) 208-3676 or TTY, (202) 502-8659.

Any questions regarding this application should be directed to Susan C. Stires, Post Box Office 1087, Colorado Springs, CO 80944, telephone no. (719) 667-7514, facsimile no. (719) 667-7534, and e-mail: EPNGregulatoryaffairs@elpaso.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. 2010-27559 Filed 11-1-10; 8:45 am]

BILLING CODE 6717-01-P